DEPARTMENT OF ENERGY

Federal Energy Regulatory Commission

[Docket No. RP00-389-001]

Cove Point LNG Limited Partnership; Notice of Tariff Filing

August 18, 2000.

Take notice that on August 15, 2000, Cove Point LNG Limited Partnership (Cove Point) tendered for filing Substitute Original Sheet No. 7 to Second Revised Volume No. 1 of its FERC Gas Tariff. The proposed effective date of the enclosed tariff sheet is June 14, 2000.

Cove Point states that the purpose of the instant filing is to replace the tariff sheet accepted by a letter order issued August 8, 2000 which was inadvertently filed in the referenced docket without reflecting Cove Point's fuel retainage percentages accepted by the letter order issued March 24, 2000 in Docket No. RP00-210-000. In order to reflect the correct fuel retainage percentages, Cove Point is submitting Substitute Original Sheet No. 7 to replace the current effective Original Sheet No. 7.

Cove Point respectfully requests that the Commission grant a waiver of the notice requirements in Section 154.207 of its regulations, and any other waivers that may be necessary, in order that the tariff sheets be made effective as proposed herein.

In accordance with the provisions of Section 154.23(d) of the Commission's Regulations, copies of this filing are available for public inspection, during regular business hours, in a convenient form and place at Cove Point's main office at 2800 Post Oak Boulevard in Houston, Texas.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21594 Filed 8-23-00; 8:45 am]

BILLING CODE 6717-01-M